COMMITTEE FOR PURCHASE FROM PEOPLE WHO ARE BLIND OR SEVERELY DISABLED

41 CFR Parts 51-8, 51-9, and 51-10

Change in Committee Mailing Address

AGENCY: Committee for Purchase From People Who Are Blind or Severely Disabled.

ACTION: Final rule.

SUMMARY: The Committee is making changes in its regulations to correct its mailing address after a recent office move.

EFFECTIVE DATE: June 2, 2000.

ADDRESSES: Committee for Purchase From People Who Are Blind or Severely Disabled, Jefferson Plaza 2, Suite 10800, 1421 Jefferson Davis Highway, Arlington, Virginia 22202-3259.

FOR FURTHER INFORMATION CONTACT: G. John Heyer (703) 603-0665. Copies of this notice will be made available on request in computer diskette format.

SUPPLEMENTARY INFORMATION: The Committee is amending those provisions of its regulations which state its mailing address, as the address changed on May 12, 2000. The provisions appear in the Committee's Freedom of Information Act, Privacy Act, and nondiscrimination regulations at 41 CFR parts 51-8, 51-9, and 51-10 respectively. This amendment is exempt under 5 U.S.C. 553(a)(2) from notice-and-comment rulemaking because it is a matter of internal agency management.

Regulatory Flexibility Act

This final rule is exempt from the Regulatory Flexibility Act because it does not meet the definition of a “rule” in that Act.

Paperwork Reduction Act

The Paperwork Reduction Act does not apply to this final rule because it contains no new information collection or recordkeeping requirements as defined in that Act and its regulations.

Executive Order No. 12866

The Committee has been exempted from the regulatory review requirements of the Executive Order by the Office of Information and Regulatory Affairs. Additionally, this final rule is not a significant regulatory action as defined in the Executive Order.

List of Subjects

41 CFR Part 51-8

Freedom of information.

41 CFR Part 51-9

Privacy.

41 CFR Part 51-10

Administrative practice and procedure, Civil rights, Equal employment opportunity, Federal buildings and facilities, Handicapped.

For the reasons set out in the preamble, Parts 51-8, 51-9 and 51-10 of Title 41, Chapter 51 of the Code of Federal Regulations are amended as follows:

PART 51-8—PUBLIC AVAILABILITY OF AGENCY MATERIALS

1. The authority citation for Part 51-8 continues to read as follows:

Authority: 5 U.S.C. 552.

§§ 51-8.4 and 51-8.5 [Amended]

2. Remove the words “Crystal Gateway 3, Suite 310, 1215 Jefferson Davis Highway, Arlington, Virginia 22202-4302” and add, in their place, the words “Jefferson Plaza 2, Suite 10800, 1421 Jefferson Davis Highway, Arlington, Virginia 22202-3259” in the following places:

a. Section 51-8.4; and

b. Section 51-8.5(a).

PART 51-9—PRIVACY ACT RULES

3. The authority citation for Part 51-9 continues to read as follows:

Authority: 5 U.S.C. 552a.

§§ 51-9.401 and 51-9.405 [Amended]

4. Remove the words “Crystal Gateway 3, Suite 310, 1215 Jefferson Davis Highway, Arlington, Virginia 22202-4302” and add, in their place, the words “Jefferson Plaza 2, Suite 10800, 1421 Jefferson Davis Highway, Arlington, Virginia 22202-3259” in the following places:

a. Section 51-9.401(a); and

b. Section 51-9.405(a).

PART 51-10—ENFORCEMENT OF NONDISCRIMINATION ON THE BASIS OF HANDICAP IN PROGRAMS OR ACTIVITIES CONDUCTED BY THE COMMITTEE FOR PURCHASE FROM PEOPLE WHO ARE BLIND OR SEVERELY DISABLED

5. The authority citation for Part 51-10 continues to read as follows:

Authority: 29 U.S.C. 794.

§ 51-10.170 [Amended]

6. In § 51-10.170(c), remove the words “Crystal Gateway 3, Suite 310, 1215 Jefferson Davis Highway, Arlington, Virginia 22202-4302” and add, in their place, the words “Jefferson Plaza 2, Suite 10800, 1421 Jefferson Davis Highway, Arlington, Virginia 22202-3259”.

Dated: May 30, 2000.
Leon A. Wilson, Jr.,
Executive Director.

[FR Doc. 00-13859 Filed 6-1-00; 8:45 am]

BILLING CODE 6353-01-P